DEPARTMENT OF TRANSPORTATION

National Highway Traffic Safety Administration

[Docket No. NHTSA 2003-15621; Notice 1]

Accuride Corporation Receipt of Application for Decision of Inconsequential Noncompliance

Accuride Corporation (Accuride) has determined that approximately 1,053 Extra Service Wheels, produced between May 27, 2003, and May 31, 2003, do not meet certain requirements of Federal Motor Vehicle Safety Standard (FMVSS) No. 120, “Tire Selection and Rims for Motor Vehicles Other Than Passenger Cars.”

Pursuant to 49 U.S.C. 30118(d) and 30120(h), Accuride has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliant wheels, produced by Accuride at its Erie, Pennsylvania plant and machined at the Accuride plant in Cuyahoga Falls, Ohio, do not have a “DOT-T” stamp on the rims. The symbol “DOT” and the designation, which indicates the source of the rims’, published nominal dimensions, in this case “T” were inadvertently not marked on the wheels.

Accuride believes that the omission of the “DOT-T” marking is inconsequential to safety as the omission in no way affects the performance of the wheel and does not otherwise compromise safety. All other information markings required by FMVSS No. 120 are correctly marked.

Interested persons are invited to submit written views, arguments, and data on the application described above. Comments must refer to the docket and notice number cited at the beginning of this notice and be submitted to: U.S. Department of Transportation, Docket Management, Room PL-401, 400 Seventh Street, SW., Washington, DC 20590. It is requested, but not required, that two copies of the comments be provided. The Docket Section is open on weekdays from 10 a.m. to 5 p.m. Comments may be submitted electronically by logging onto the Docket Management System Web site at http://dms.dot.gov. Click on “Help” to obtain instructions for filing the document electronically.

All comments received before the close of business on the closing date indicated below will be considered. The application and supporting materials, and all comments received after the closing date, will also be filed and will be considered to the extent possible. When the application is granted or denied, the notice will be published in the Federal Register pursuant to the authority indicated below. Comment closing date: August 20, 2003.

(49 U.S.C. 301118, 301120; delegations of authority at 49 CFR 1.50 and 501.8)

Issued on: July 15, 2003.
Stephen R. Kratzke,
Associate Administrator for Rulemaking.

[FR Doc. 03-18496 Filed 7-18-03; 8:45 am]

BILLING CODE 4910-59-P